DEPARTMENT OF COMMERCE

National Oceanic and Atmospheric Administration

RIN 0648-XC554

Marine Mammals; File No. 17952

AGENCY: National Marine Fisheries Service (NMFS), National Oceanic and Atmospheric Administration (NOAA), Commerce.

ACTION: Notice; issuance of permit.

SUMMARY: Notice is hereby given that a permit has been issued to Daniel P. Costa, Ph.D., Department of Biology and Institute of Marine Sciences, University of California, Santa Cruz, CA 95064 to conduct scientific research on California sea lions (Zalophus californianus).

ADDRESSES: The permit and related documents are available for review upon written request or by appointment in the following offices:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426; and

Southwest Region, NMFS, 501 West Ocean Blvd., Suite 4200, Long Beach, CA 90802-4213; phone (562) 980-4001; fax (562) 980-4018.

FOR FURTHER INFORMATION CONTACT: Colette Cairns or Amy Sloan, (301) 427-8401.

SUPPLEMENTARY INFORMATION: On March 13, 2013, notice was published in the Federal Register (78 FR 15933) that a request for a permit to conduct research on the species identified above had been submitted by the above-named applicant. The requested permit has been issued under the authority of the Marine Mammal Protection Act of 1972, as amended (16 U.S.C. 1361 et seq.), and the regulations governing the taking and importing of marine mammals (50 CFR part 216).

The permit authorizes Dr. Costa to continue long-term research on California sea lions in California studying their foraging, diving, energetics, food habits, and at sea distribution. Dr. Costa is authorized to capture, sample, tag and release California sea lion pups, juveniles, and adults. The permit authorizes Dr. Costa to recapture tagged California sea lions throughout their U.S. range. Harassment of California sea lions, harbor seals (Phoca vitulina), and northern elephant seals (Mirounga angustirostris) annually incidental to research activities is authorized. Unintentional research-related mortality of up to 20 California sea lions over the course of the permit is authorized. Import and export of pinniped samples is authorized. The permit expires June 7, 2018.

In compliance with the National Environmental Policy Act of 1969 (42 U.S.C. 4321 et seq.), a final determination has been made that the activity proposed is categorically excluded from the requirement to prepare an environmental assessment or environmental impact statement.

Dated: June 19, 2013.
P. Michael Payne,
Chief, Permits and Conservation Division, Office of Protected Resources, National Marine Fisheries Service.

[FR Doc. 2013-14972 Filed 6-21-13; 8:45 am]

BILLING CODE 3510-22-P